DEPARTMENT OF EDUCATION

Office of Special Education and Rehabilitative Services; Overview Information; Training of Interpreters for Individuals Who Are Deaf or Hard of Hearing and Individuals Who Are Deaf-Blind; Notice Inviting Applications for New Awards for Fiscal Year (FY) 2005

Catalog of Federal Domestic Assistance (CFDA) Numbers: 84.160A and 84.160B.

Dates: Applications Available: August 3, 2005.

Deadline for Transmittal of Applications: September 2, 2005.

Deadline for Intergovernmental Review: September 12, 2005.

Eligible Applicants: Public and private nonprofit agencies and organizations, including institutions of higher education.

Estimated Available Funds: $2,100,000.

Estimated Range of Awards: Regional Interpreter Education Centers: $250,000 to $300,000; National Interpreter Education Center: $500,000 to $600,000.

Estimated Average Size of Awards: Regional Interpreter Education Centers: $275,000; National Interpreter Education Center: $550,000.

Maximum Award: Regional Interpreter Education Centers: We will reject any application that proposes a budget exceeding $300,000 for a single budget period of 12 months. The Assistant Secretary for the Office of Special Education and Rehabilitative Services may change the maximum amount through a notice published in the Federal Register.

National Interpreter Education Center: We will reject any application that proposes a budget exceeding $600,000 for a single budget period of 12 months. The Assistant Secretary for the Office of Special Education and Rehabilitative Services may change the maximum amount through a notice published in the Federal Register.

Estimated Number of Awards: Regional Interpreter Education Centers: 5. One project will be awarded in each of the U.S. Department of Education bi-regions as follows: Region I and Region II, Region III and Region IV, Region V and Region VII, Region VI and Region VIII, and Region IX and Region X.

National Interpreter Education Center: 1.

Note: The Department is not bound by any estimates in this notice.

Project Period: Up to 60 months.

Full Text of Announcement

I. Funding Opportunity Description

Purpose of Program: This program provides grants to eligible entities to establish interpreter training programs or to assist ongoing training programs to train a sufficient number of qualified interpreters in order to meet the communications needs of individuals who are deaf or hard of hearing and individuals who are deaf-blind.

Priorities: For these competitions, there are three priorities from the notice of final priorities and definitions for this program, published elsewhere in this issue of the Federal Register. Also, in accordance with 34 CFR 75.105(b)(2)(ii), there is a priority from the regulations for this program (34 CFR 396.33).

Absolute Priorities: For FY 2005 priorities 1 and 2 are absolute priorities. For the National Interpreter Education Center, under 34 CFR 75.105(c)(3) we consider only applications that meet Priority 1 from the notice of final priorities and definitions. For the Regional Interpreter Education Center or Centers, under 34 CFR 75.105(c)(3) we consider only applications that meet Priority 2 from the notice of final priorities and definitions. For both competitions, the following priority from the regulations (34 CFR 396.33) applies:

The Secretary, in making awards under this program, gives priority to public or private nonprofit agencies or organizations with existing programs that have demonstrated their capacity for providing interpreter training services.

Competitive Preference Priority: Within the absolute priority in 34 CFR 396.33, for FY 2005 we are designating Priority 3 from the notice of final priorities and definitions as a competitive preference priority. Under 34 CFR 75.105(c)(2)(ii), we give preference to an application that meets the competitive preference priority over an application of comparable merit that does not meet the priority.

Program Authority: 29 U.S.C. 772(f).

Applicable Regulations: (a) The Education Department General Administrative Regulations (EDGAR) are in 34 CFR parts 74, 75, 77, 79, 80, 81, 82, 84, 85, and 86. (b) The regulations in 34 CFR 385.32, 385.40, 385.44, 385.45, and 385.46. (c) The regulations in 34 CFR part 396. (d) The notice of final priorities and definitions for this program, published elsewhere in this issue of the Federal Register.

Note: The regulations in 34 CFR part 86 apply to institutions of higher education only.

II. Award Information

Type of Award: Discretionary grants.

Estimated Available Funds: $2,100,000.

Estimated Range of Awards: Regional Interpreter Education Centers: $250,000 to $300,000; National Interpreter Education Center: $500,000 to $600,000.

Estimated Average Size of Awards: Regional Interpreter Education Centers: $275,000; National Interpreter Education Center: $550,000.

Maximum Award: Regional Interpreter Education Centers: We will reject any application that proposes a budget exceeding $300,000 for a single budget period of 12 months. The Assistant Secretary for the Office of Special Education and Rehabilitative Services may change the maximum amount through a notice published in the Federal Register.

National Interpreter Education Center: We will reject any application that proposes a budget exceeding $600,000 for a single budget period of 12 months. The Assistant Secretary for the Office of Special Education and Rehabilitative Services may change the maximum amount through a notice published in the Federal Register.

Estimated Number of Awards: Regional Interpreter Education Centers: 5. One project will be awarded in each of the U.S. Department of Education bi-regions as follows: Region I and Region II (Connecticut, Maine, Massachusetts, New Hampshire, New Jersey, New York, Puerto Rico, Rhode Island, U.S. Virgin Islands, and Vermont); Region III and Region IV (Alabama, Delaware, District of Columbia, Florida, Georgia, Kentucky, Maryland, Mississippi, North Carolina, Pennsylvania, South Carolina, Tennessee, Virginia, and West Virginia); Region V and Region VII (Illinois, Indiana, Iowa, Kansas, Michigan, Minnesota, Missouri, Nebraska, Ohio, and Wisconsin); Region VI and Region VIII (Arkansas, Colorado, Louisiana, Montana, New Mexico, North Dakota, Oklahoma, South Dakota, Texas, Utah, and Wyoming); and Region IX and Region X (Alaska, American Samoa, Arizona, California, Commonwealth of Northern Mariana Islands, Guam, Hawaii, Idaho, Nevada, Oregon, and Washington).

National Interpreter Education Center: 1.

Note: The Department is not bound by any estimates in this notice.

Project Period: Up to 60 months.

III. Eligibility Information

1. Eligible Applicants: Public and private nonprofit agencies and organizations, including institutions of higher education.

2. Cost Sharing or Matching: This program does not involve cost sharing or matching.

Note: Under 34 CFR 75.562(c), an indirect cost reimbursement on a training grant is limited to the recipient's actual indirect costs, as determined by its negotiated indirect cost rate agreement, or eight percent of a modified total direct cost base, whichever amount is less. Indirect costs in excess of the eight percent limit may not be charged directly, used to satisfy matching or cost-sharing requirements, or charged to another Federal award.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: www.ed.gov/pubs/edpubs.html or you may contact ED Pubs at its e-mail address: edpubs@inet.ed.gov.

If you request an application from ED Pubs, be sure to identify this competition as follows: CFDA numbers 84.160A and 84.160B.

Individuals with disabilities may obtain a copy of the application package in an alternative format (e.g., Braille, large print, audiotape, or computer diskette) by contacting the Grants and Contracts Services Team, U.S. Department of Education, 400 Maryland Avenue, SW., room 5075, Potomac Center Plaza, Washington, DC 20202-2550. Telephone: (202) 245-7363. If you use a telecommunications device for the deaf (TDD), you may call the Federal Relay Service (FRS) at 1-800-877-8339.

2. Content and Form of Application Submission: Requirements concerning the content of an application, together with the forms you must submit, are in the application package for this program.

Page Limit: The application narrative (Part III of the application) is where you, the applicant, address the selection criteria that reviewers use to evaluate your application. We suggest you limit Part III to the equivalent of no more than 45 pages if you are submitting an application for the National Interpreter Education Center and 35 pages if you are submitting an application for the Regional Interpreter Education Centers, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

3. Submission Dates and Times:

Applications Available: August 3, 2005.

Deadline for Transmittal of Applications: September 2, 2005.

Applications for grants under these competitions may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

Deadline for Intergovernmental Review: September 12, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under these competitions may be submitted electronically or in paper format by mail or hand delivery.

a. Electronic Submission of Applications.

If you choose to submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for these competitions after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application must be attached as files in a .DOC (document), .RFT (rich text), or .PDF (Portable Document) format.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard copy signature page of the ED 424.

(4) Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgment of your submission, you may submit your application in paper format by mail or hand delivery in accordance with the instructions in this notice.

b. Submission of Paper Applications By Mail.

If you submit your application in paper format by mail (through the U.S. Postal Service or a commercial carrier), you must mail the original and two copies of your application, on or before the application deadline date, to the Department at the applicable following address:

By mail through the U.S. Postal Service: U.S. Department of Education, Application Control Center, Attention: (CFDA Numbers 84.160A and 84.160B), 400 Maryland Avenue, SW., Washington, DC 20202-4260; or

By mail through a commercial carrier: U.S. Department of Education, Application Control Center—Stop 4260, Attention: (CFDA Numbers 84.160A and 84.160B), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Numbers 84.160A and 84.160B), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this program are from 34 CFR 75.209, 34 CFR 75.210, and 34 CFR 396.31 and are listed in the application package.

2. Review and Selection Process: As required by 34 CFR 396.32, an additional factor we consider in selecting an application for an award under 84.160A for the Regional Interpreter Education Centers is the geographical location of the applicant that can best carry out the purposes of this program.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Government Performance and Results Act of 1993 (GPRA) directs Federal departments and agencies to improve the effectiveness of their programs by engaging in strategic planning, setting outcome-related goals for programs, and measuring program results against those goals. The goal of the Training of Interpreters for Individuals Who Are Deaf or Hard of Hearing and Individuals Who Are Deaf-Blind program is to establish interpreter training programs or to assist ongoing training programs to train a sufficient number of qualified interpreters in order to meet the communications needs of individuals who are deaf or hard of hearing and individuals who are deaf-blind.

As required by the priorities, grantees must develop and implement program quality indicators and measure their performance against these indicators. In addition, the Rehabilitation Services Administration (RSA) will use the following indicators for the Training of Interpreters for Individuals Who Are Deaf or Hard of Hearing and Individuals Who Are Deaf-Blind National Interpreter Education Center project:

(a) The percentage of interpreter educators receiving educational opportunities (based on the model curriculum developed for interpreter educators under Grant Number H160C030001) from the National Center and who successfully completed those opportunities as demonstrated through pre- and post-activity assessments, the development of portfolios, etc.

(b) The extent to which the educational activities and products for delivery through the five proposed Regional Interpreter Education Centers meet the clear, measurable goals that the grantee is required to establish.

(c) A listing of organizations and individuals that received information related to the activities of this project and the Regional Interpreter Education Center projects.

(d) The degree to which the project's activities have contributed to changed practices and improved the quality of interpreters.

RSA will use the following indicators for each of the Training of Interpreters for Individuals Who Are Deaf or Hard of Hearing and Individuals Who Are Deaf-Blind Regional Interpreter Education Center projects:

(a) A listing of all formal relationships with Local Partner Networks across the region.

(b) The percentage of interpreters at all skill levels receiving educational opportunities by the Regional Interpreter Education Center who successfully completed those opportunities as demonstrated through pre- and post-activity assessments, the development of portfolios, the completion of mentoring goals, the attainment of interpreter certification, etc.

(c) The degree to which the project's activities have contributed to changed practices and improved the quality of interpreters.

(d) The degree to which the project's activities have served each State within its designated geographic region.

Each grantee must report annually to RSA on these indicators through their annual performance report.

VII. Agency Contact

FOR FURTHER INFORMATION CONTACT: Annette Reichman, U.S. Department of Education, 400 Maryland Avenue, SW., room 5032, Potomac Center Plaza, Washington, DC 20202-2800. Telephone: (202) 245-7489 or by e-mail: Annette.Reichman@ed.gov.

If you use a telecommunications device for the deaf (TDD), you may call (202) 205-8352.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: July 28, 2005.
John H. Hager,
Assistant Secretary for Special Education and Rehabilitative Services.

[FR Doc. 05-15253 Filed 8-2-05; 8:45 am]

BILLING CODE 4000-01-P